DEPARTMENT OF COMMERCE

International Trade Administration

[A-489-810]

Notice of Postponement of Final Antidumping Duty Determination; Certain Cold-Rolled Carbon Steel Flat Products from Turkey

AGENCY: Import Administration, International Trade Administration, Department of Commerce.

ACTION: Notice of Postponement of Final Antidumping Duty Determination of Certain Cold-Rolled Carbon Steel Flat Products from Turkey.

SUMMARY: The Department of Commerce (the Department) is postponing the final determination in the antidumping duty investigation of certain cold-rolled carbon steel flat products from Turkey. Suspension of liquidation will be extended accordingly.

EFFECTIVE DATE: June 20, 2002.

FOR FURTHER INFORMATION CONTACT: Melissa Blackledge or Robert James, Import Administration, International Trade Administration, U.S. Department of Commerce, 14th Street and Constitution Avenue, NW, Washington, DC 20230, at 202-482-3518, or 202-482-0649, respectively.

SUPPLEMENTARY INFORMATION:

Applicable Statute and Regulations

Unless otherwise indicated, all citations to the Tariff Act of 1930, as amended (the Tariff Act), are references to the provisions effective January 1, 1995, the effective date of the amendments made to the Tariff Act by the Uruguay Round Agreements Act (URAA). In addition, unless otherwise indicated, all citations to the Department's regulations are to the regulations codified at 19 CFR part 351 (April 2001).

Postponement of Final Determinations and Extension of Provisional Measures

On May 9, 2002, the Department published the affirmative preliminary determination for the investigation of certain cold-rolled carbon steel flat products (cold-rolled steel) from Turkey. See Notice of Preliminary Determination of Sales at Less Than Fair Value: Certain Cold-Rolled Carbon Steel Flat Products from Turkey, 67 FR 31264 (May 9, 2002).

Pursuant to section 735(a)(2) of the Tariff Act and section 351.210(b)(2)(ii) of the Department's regulations, on May 31, 2002, the respondent in the case, Borcelik Celik Sanayii ve Ticaret A.S. (Borcelik) requested the Department postpone the final determination in accordance with section 735(a)(2)(A) of the Tariff Act. Borcelik also requested that the Department extend to six months any provisional measures imposed pursuant to section 733(d) of the Tariff Act.

Section 735(a)(2) of the Tariff Act provides that a final determination may be postponed until not later than 135 days after the date of the publication of the preliminary determination if, in the event of an affirmative determination, a request for a postponement is made by exporters who account for a significant proportion of exports of the subject merchandise, or in the event of a negative preliminary determination, a request for such postponement is made by petitioner. The Department's regulations, at 19 CFR 351.210(e)(2), require that requests by respondents for postponement of a final determination be accompanied by a request for extension of provisional measures from a four-month period to not more than six months.

In accordance with 19 CFR 351.210(b)(2)(ii), because (1) our preliminary determination was affirmative, (2) the respondent requesting a postponement accounts for a significant proportion of exports of the subject merchandise from Turkey, and (3) no compelling reasons for denial exist, we are granting Borcelik's request for the postponement of the final determination.

We are postponing the final determination in this case to no later than

September 23, 2002, which is 135 days after the publication of the preliminary determination in the Federal Register. Where applicable, suspension of liquidation will be extended accordingly.

This notice of postponement is published pursuant to 19 CFR 351.210(g).

Dated: June 14, 2002.
Faryar Shirzad,
Assistant Secretary for Import Administration.

[FR Doc. 02-15594 Filed 6-19-02; 8:45 am]

BILLING CODE 3510-DS-S